EVIRONMENTAL PROTECTION AGENCY

[FRL-8328-7]

Clean Air Act Advisory Committee (CAAAC); Request for Nominations to the CAAAC

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

Request for Nominations: The U.S. Environmental Protection Agency (EPA) invites nominations of qualified candidates to be considered for appointments to the Clean Air Act Advisory Committee and its subcommittees. Suggested deadline for receiving nominations is July 20, 2007. Appointments will be made by the Administrator of the Environmental Protection Agency. Appointments for the full CAAAC committee are expected to be announced in the fall of 2007. Nominee's qualifications will be assessed under the mandates of the Federal Advisory Committee Act, which requires Committees to maintain diversity across a broad range of constituencies, sectors, and groups.

Nominations for membership must include a resume describing the professional and educational qualifications of the nominee as well as community-based experience. Contact details should include full name and title, business mailing address, telephone, fax, and e-mail address. A supporting letter of endorsement is encouraged but not required.

ADDRESSES: Submit nomination materials to: Pat Childers, Designated Federal Officer, Clean Air Act Advisory Committee, U.S. EPA (6102A) 1200 Pennsylvania Ave, Washington, DC 20004, T: 202 564-1082, F: 202 564-1352, e-mail childers.pat@epa.gov.

For Further Information concerning the CAAAC, please contact Pat Childers, Office of Air and Radiation, U.S. EPA (202) 564-1082, Fax (202) 564-1352 or by mail at U.S. EPA, Office of Air and Radiation (Mail code 6102 A), 1200 Pennsylvania Avenue, NW., Washington, DC 20004. Additional Information on CAAAC and its Subcommittees can be found on the CAAAC Web site: http://www.epa.gov/oar/caaac/.

Dated: June 12, 2007.
Pat Childers,
Designated Federal Official, Office of Air and Radiation.

[FR Doc. E7-11786 Filed 6-18-07; 8:45 am]

BILLING CODE 6560-50-P